NUCLEAR REGULATORY COMMISSION

NUREG/CR-6595, Revision 1, An Approach for Estimating the Frequencies of Various Containment Failure Modes and Bypass Events, Draft Report for Comment

AGENCY: Nuclear Regulatory Commission.

ACTION: Announcement of issuance for public comment, availability.

SUMMARY: The Nuclear Regulatory Commission has issued for public comment a document entitled: NUREG/CR-6595 Revision 1, “An Approach for Estimating the Frequencies of Various Containment Failure Modes and Bypass Events, Draft Report for Comment”.

DATES: Please submit comments by October 31, 2003. Comments received after this date will be considered if it is practical to do so, but the NRC staff is able to ensure consideration only for comments received on or before this date.

ADDRESSES: NUREG/CR-6595 Revision 1, “An Approach for Estimating the Frequencies of Various Containment Failure Modes and Bypass Events, Draft Report for Comment” is available for inspection and copying for a fee at the NRC Public Document Room, Public File Area O1-F21, 11555 Rockville Pike, Rockville, Maryland. Publically available documents created or received at the NRC after November 1, 1999, are available electronically at the NRC's Electronic Reading Room at http://www.nrc.gov/reading-rm/adams.html. From this site, the public can gain entry into the NRC's Agencywide Document Access and Management System (ADAMS), which provides text and image files of NRC's public documents. The ADAMS Accession Number for NUREG/CR-6595, Revision 1 is ML032330225. If you do not have access to ADAMS or if there are problems in accessing the documents located in ADAMS, contact the NRC Public Document Room (PDR) Reference staff at 1-800-397-4209, 301-415-4737 or by e-mail to pdr@nrc.gov.

A free single copy of NUREG/CR-6595 Revision 1, “An Approach for Estimating the Frequencies of Various Containment Failure Modes and Bypass Events, Draft Report for Comment”, to the extent of supply, may be requested by writing to Office of the Chief Information Officer, Reproduction and Distribution Services Section, U.S. Nuclear Regulatory Commission, Printing and Graphics Branch, Washington, DC 20555-0001; facsimile: 301-415-2289; e-mail: DISTRIBUTION@nrc.gov.

Please submit comments to Chief, Rules and Directives Branch, Office of Administration, U.S. Nuclear Regulatory Commission, Washington, DC 20555-0001. You may also deliver comments to 11545 Rockville Pike, Rockville, Maryland, between 7:30 a.m. and 4:30 p.m. Federal workdays, or e-mail to: NRCREP@nrc.gov.

FOR FURTHER INFORMATION CONTACT: Daniel O'Neal, Division of Risk Analysis and Applications, Office of Nuclear Regulatory Research, U.S. Nuclear Regulatory Commission, Washington, DC 20555-0001. Telephone: 301-415-4146, e-mail: dmo@nrc.gov.

SUPPLEMENTARY INFORMATION: NUREG/CR-6595 Revision 1, “An Approach for Estimating the Frequencies of Various Containment Failure Modes and Bypass Events, Draft Report for Comment” incorporates updated information and expands on the NUREG/CR-6595 report, published in January 1999. The updated full power analyses take into account recent direct containment heating studies and information gathered from the Individual Plant Examination Level 2 studies. In addition, a new chapter provides event trees which reflect containment insights for shutdown conditions.

Dated at Rockville, Maryland, this 21st day of August 2003.
For the Nuclear Regulatory Commission.
Scott F. Newberry,
Director, Division of Risk Analysis and Applications, Office of Nuclear Regulatory Research.

[FR Doc. 03-22103 Filed 8-28-03; 8:45 am]

BILLING CODE 7590-01-P